SMALL BUSINESS ADMINISTRATION

[Declaration of Economic Injury Disaster #9K78]

State of Florida

Citrus County and the contiguous counties of Hernando, Levy, Marion and Sumter in the State of Florida constitute an economic injury disaster loan area as a result of freezing temperatures beginning in December 2000 and continuing. Eligible small businesses and small agricultural cooperatives without credit available elsewhere may file applications for economic injury assistance as a result of this disaster until the close of business on November 13, 2001 at the address listed below or other locally announced locations: U.S. Small Business Administration, Disaster Area 2 Office, One Baltimore Place, Suite 300, Atlanta, GA 30308.

The interest rate for eligible small businesses and small agricultural cooperatives is 4 percent.

(Catalog of Federal Domestic Assistance Program No. 59002.)
Dated: February 13, 2001.
John Whitmore,
Acting Administrator.

[FR Doc. 01-4383 Filed 2-21-01; 8:45 am]

BILLING CODE 8025-01-P